DEPARTMENT OF TRANSPORTATION

Federal Aviation Administration

14 CFR Part 39

[Docket No. FAA-2014-0484; Directorate Identifier 2013-NM-245-AD; Amendment 39-18101; AD 2015-03-05]

RIN 2120-AA64

Airworthiness Directives; Airbus Airplanes

AGENCY: Federal Aviation Administration (FAA), Department of Transportation (DOT).

ACTION: Final rule.

SUMMARY: We are superseding Airworthiness Directive (AD) 2012-09-07 for certain Airbus Model A319-111, -112, and -132 airplanes; Model A320-111, -211, -212, -214, and -232 airplanes; and Model A321-111, -211, -212, and -231 airplanes. AD 2012-09-07 required an electrical bonding test between the gravity fill re-fuel adaptor and the top skin panels on the wings; and, if necessary, an inspection for corrosion of the component interface and adjacent area; and repairing the gravity fuel adaptor if necessary. This new AD adds airplanes to the applicability and requires inspecting those airplanes to determine if a repair was done, and doing the electrical bonding test and corrective action if necessary. This AD was prompted by a determination that more airplanes are subject to the identified unsafe condition. We are issuing this AD to detect and correct corrosion and improper bonding, which, in combination with a lightning strike in this area, could create a source of ignition in a fuel tank, resulting in a fire or explosion and consequent loss of the airplane.

DATES: This AD becomes effective March 25, 2015.

The Director of the Federal Register approved the incorporation by reference of a certain publication listed in this AD as of March 25, 2015.

ADDRESSES: You may examine the AD docket on the Internet at http://www.regulations.gov/#!docketDetail;D=FAA-2014-0484; or in person at the Docket Management Facility, U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0484.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 to supersede AD 2012-09-07, Amendment 39-17042 (77 FR 28238, May 14, 2012). AD 2012-09-07 applied to certain Airbus Model A319-111, -112, and -132 airplanes; Model A320-111, -211, -212, -214, and -232 airplanes; and Model A321-111, -211, -212, and -231 airplanes. The NPRM published in the Federal Register on July 30, 2014 (79 FR 44144).

The European Aviation Safety Agency (EASA), which is the Technical Agent for the Member States of the European Union, has issued EASA Airworthiness Directive 2013-0277R1, dated December 4, 2013 (referred to after this as the Mandatory Continuing Airworthiness Information, or “the MCAI”), to correct an unsafe condition for all Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes. The MCAI states:

Cases of corrosion findings were reported on the overwing refueling aperture (used to fill the fuel tank by gravity) on the wing top skin. The reported corrosion was on the mating surface of the aperture flange, underneath the refuel adaptor. Corrosion findings have been repaired on a case by case basis in accordance with approved data.

For certain aeroplanes, the repair provided by Airbus contained instructions to apply primer coating on the mating surface. Since doing those repairs, it has been found that this primer coating may prevent proper electrical bonding provision between the overwing refueling cap adaptor and the wing skin.

This condition, if not detected and corrected, could, in combination with a lightning strike in this area, create a source of ignition in a fuel tank, possibly resulting in a fire or explosion and consequent loss of the aeroplane.

To address this potential unsafe condition, EASA issued AD 2011-0034 [http://ad.easa.europa.eu/blob/easa_ad_2011_0034.pdf/AD_2011-0034] to require a one-time electrical bonding check between the gravity fill re-fuel adaptor and the top skin panels on the affected aeroplanes (identified by MSN [manufacturer serial number] in the applicability section of that [EASA] AD) and, in case of findings, the accomplishment of applicable corrective actions.

Since that [EASA] AD was issued, EASA has been made aware that some operators may inadvertently have applied an Airbus repair, approved for only one aeroplane MSN, to other aeroplanes, without requesting a revision of the repair to add aeroplanes, or to notify Airbus of such action(s). Consequently, the condition addressed by EASA AD 2011-0034 could affect more aeroplanes than initially determined.

For the reasons described above, this [EASA] AD retains the requirements of EASA AD 2011-0034, which is superseded, and expands the Applicability to all A320 family aeroplane Models, all MSN.

This [EASA] AD has been revised to amend and clarify paragraph (3), and to correct an error in the Type/Model designations on page 1, where the A318 was inadvertently omitted.

For the newly added airplanes, required actions include inspecting for the presence of a corrosion repair on an overwing refueling aperture, and doing the electrical bonding test and applicable corrective actions if a repair has been installed. You may examine the MCAI in the AD docket on the Internet at http://www.regulations.gov/#!documentDetail;D=FAA-2014-0484-0002.

Comments

We gave the public the opportunity to participate in developing this AD. The following presents the comment received on the NPRM (79 FR 44144, July 30, 2014) and the FAA's response to the comment.

Request To Include Revised Service Information

United Airlines (UAL) asked that we include a statement in the NPRM (79 FR 44144, July 30, 2014), which allows performing the required actions in accordance with the instructions of Airbus Service Bulletin A320-57-1152, Revision 01, dated December 19, 2013. UAL stated that the revised service information specifies the same method of inspection as specified in Airbus Service Bulletin A320-57-1152, dated June 14, 2010. UAL further stated that Revision 01 of this service bulletin also provides operators with updated repair instructions that were not available in the original issue of this service bulletin.

We agree with the commenter's request. Since issuance of the NPRM (79 FR 44144, July 30, 2014), Airbus has issued Service Bulletin A320-57-1152, Revision 01, dated December 19, 2013. This revision states that no additional work is necessary on airplanes changed in accordance with Airbus Service Bulletin A320-57-1152, dated June 14, 2010, which was specified as the appropriate source of service information in the NPRM (79 FR 44144, July 30, 2014).

We have changed paragraph (g) of this AD to specify Airbus Service Bulletin A320-57-1152, Revision 01, dated December 19, 2013. We have also added a new paragraph (h) to this AD to give credit for actions done before the effective date of this AD using Airbus Service Bulletin A320-57-1152, dated June 14, 2010, and redesignated subsequent paragraphs accordingly.

Conclusion

We reviewed the relevant data and determined that air safety and the public interest require adopting this AD with the changes described previously and minor editorial changes. We have determined that these minor changes:

• Are consistent with the intent that was proposed in the NPRM (79 FR 44144, July 30, 2014) for correcting the unsafe condition; and

• Do not add any additional burden upon the public than was already proposed in the NPRM (79 FR 44144, July 30, 2014).

We also determined that these changes will not increase the economic burden on any operator or increase the scope of this AD.

Related Service Information Under 1 CFR Part 51

Airbus has issued Service Bulletin A320-57-1152, Revision 01, dated December 19, 2013. The service information describes procedures for inspecting certain airplanes to determine if a repair was done, and doing an electrical bonding test and corrective action if necessary. This service information is reasonably available; see ADDRESSES for ways to access this service information.

Costs of Compliance

We estimate that this AD affects 851 airplanes of U.S. registry.

The actions required by AD 2012-09-07, Amendment 39-17042 (77 FR 28238, May 14, 2012), and retained in this AD take about 2 work-hours per product, at an average labor rate of $85 per work-hour. Based on these figures, the estimated cost of the actions that were required by AD 2012-09-07 is $170 per product.

We also estimate that it takes about 2 work-hours per product to comply with the basic requirements of this AD. The average labor rate is $85 per work-hour. Required parts cost about $0 per product. Based on these figures, we estimate the cost of this AD on U.S. operators to be $144,670, or $170 per product.

In addition, we estimate that any necessary follow-on actions will take about 11 work-hours, for a cost of $935 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0484; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-09-07, Amendment 39-17042 (77 FR 28238, May 14, 2012), and adding the following new AD:

2015-03-05 Airbus: Amendment 39-18101. Docket No. FAA-2014-0484; Directorate Identifier 2013-NM-245-AD.

(a) Effective Date

This AD becomes effective March 25, 2015.

(b) Affected ADs

This AD replaces AD 2012-09-07, Amendment 39-17042 (77 FR 28238, May 14, 2012).

(c) Applicability

(1) This AD applies to Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all manufacturer serial numbers, except airplanes identified in paragraph (c)(2) of this AD.

(2) Airplanes that have been delivered from production with Airbus Modification 38209 (Removal of the Outer Wing Refueling Aperture) incorporated, and without Airbus Modification 38206 (Re-introduction of the Outer Wing Refueling Aperture) incorporated, are not affected by the requirements of this AD.

(d) Subject

Air Transport Association (ATA) of America Code 57, Wings.

(e) Reason

This AD was prompted by a determination that more airplanes are subject to the identified unsafe condition. We are issuing this AD to detect and correct corrosion and improper bonding, which, in combination with a lightning strike in this area, could create a source of ignition in a fuel tank, resulting in a fire or explosion and consequent loss of the airplane.

(f) Compliance

Comply with this AD within the compliance times specified, unless already done.

(g) Retained Electrical Bonding Test, and General Visual Inspection if Necessary, With Changes

This paragraph restates the requirements of paragraph (g) of AD 2012-09-07, Amendment 39-17042 (77 FR 28238, May 14, 2012), with revised repair approval language and revised service information. For Model A319-111, -112, and -132 airplanes; Model A320-111, -211, -212, -214 and -232 airplanes; and Model A321-111, -211, -212, and -231 airplanes; certificated in any category; having manufacturer serial numbers 0039, 0078, 0109, 0118, 0120, 0153, 0174, 0187, 0203, 0215, 0218, 0226, 0227, 0228, 0236, 0237, 0269, 0270, 0278, 0285, 0286, 0287, 0288, 0294, 0301, 0337, 0377, 0462, 0463, 0464, 0465, 0520, 0523, 0528, 0876, 0888, 0921, 0935, 0974, 1014, 1102, 1130, 1160, 1162, 1177, 1215, 1250, 1287, 1336, 1388, 1404, 1444, 1449, 1476, 1505, 1524, 1564, 1605, 1616, 1622, 1640, 1645, 1658, 1677, 1691, 1729, and 1905: Within 24 months after June 18, 2012 (the effective date of AD 2012-09-07), do an electrical bonding test to check for bonding between the re-fuel adaptor of the gravity fill and the top skin panels on the left-hand and right-hand wings, in accordance with the Accomplishment Instructions of Airbus Service Bulletin A320-57-1152, Revision 01, dated December 19, 2013.

(1) If the resistance value is 10 milliohms or less at the left-hand and right-hand wing, no further action is required by this paragraph.

(2) If the resistance value is greater than 10 milliohms at the left-hand or right-hand wing, before further flight, do a general visual inspection for corrosion of the component interface and adjacent area, in accordance with the Accomplishment Instructions of Airbus Service Bulletin A320-57-1152, Revision 01, dated December 19, 2013. If any corrosion is found during the inspection, before further flight, repair the gravity fill fuel adaptor, in accordance with the Accomplishment Instructions of Airbus Service Bulletin A320-57-1152, Revision 01, dated December 19, 2013; except where Airbus Service Bulletin A320-57-1152, Revision 01, dated December 19, 2013, specifies to contact Airbus, before further flight, repair using a method approved by the Manager, International Branch, ANM-116, Transport Airplane Directorate, FAA; or the European Aviation Safety Agency (EASA); or Airbus's EASA Design Organization Approval (DOA). If approved by the DOA, the approval must include the DOA-authorized signature.

(h) Credit for Previous Actions

This paragraph provides credit for the actions specified in paragraph (g) of this AD, if those actions were performed before the effective date of this AD using Airbus Service Bulletin A320-57-1152, dated June 14, 2010, which was incorporated by reference in AD 2012-09-07, Amendment 39-17042 (77 FR 28238, May 14, 2012).

(i) New Requirement of This AD: Maintenance Check/Electrical Bonding Test and Corrective Action if Necessary

For airplanes other than those identified in paragraph (g) of this AD: Within 24 months after the effective date of this AD, determine whether a corrosion repair has been done on an overwing refueling aperture, whereby a primer coating has been applied on the mating surface of the aperture flange. A review of the airplane maintenance records is acceptable to make this determination, provided that whether a primer coat was applied can be conclusively determined from that review.

(1) If it is determined that a primer coating was applied on the mating surface of the aperture flange; or if a determination cannot be made, or the outcome is inconclusive: Within 24 months after the effective date of this AD do the electrical bonding test specified in paragraph (g) of this AD, and before further flight, do all applicable actions specified in paragraph (g)(2) of this AD.

(2) If it is determined that a corrosion repair has not been done, and a primer coating has not been applied on the mating surface of the aperture flange since first entry into service, no further action is required by this paragraph.

(j) Corrosion Repair Provision

As of the effective date of this AD, any corrosion repair done on an overwing refueling aperture on any airplane must comply with the repair requirements of paragraph (g)(2) of this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2012-09-07, Amendment 39-17042 (77 FR 28238, May 14, 2012), are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(l) Related Information

(1) Refer to Mandatory Continuing Airworthiness Information (MCAI) EASA Airworthiness Directive 2013-0277R1, dated December 4, 2013, for related information. This MCAI may be found in the AD docket on the Internet at http://www.regulations.gov/#!documentDetail;D=FAA-2014-0484-0002.

(2) Service information identified in this AD that is not incorporated by reference in this AD is available at the addresses specified in paragraphs (m)(4) and (m)(5) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-57-1152, Revision 01, dated December 19, 2013.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 4, 2015.
Dionne Palermo,
Acting Manager, Transport Airplane Directorate, Aircraft Certification Service.

[FR Doc. 2015-02697 Filed 2-17-15; 8:45 am]

BILLING CODE 4910-13-P